DEPARTMENT OF AGRICULTURE

Forest Service

Notice of Issuance of Final Permanent Recreational Shooting Order in the Southern Clear Creek, Northern Larimer and Grand County Areas in the Clear Creek, Canyon Lakes, and Sulphur Ranger Districts of the Arapaho and Roosevelt National Forests and Pawnee National Grassland

AGENCY: Forest Service, Agriculture.

ACTION: Notice.

SUMMARY: The Forest Service (Forest Service or Agency), U.S. Department of Agriculture, is issuing a final permanent order prohibiting recreational shooting, which covers approximately 94,900 acres in southern Clear Creek, northern Larimer and Grand Counties, Colorado, in the Clear Creek, Canyon Lakes, and Sulphur Ranger Districts of the Arapaho and Roosevelt National Forests and Pawnee National Grassland.

ADDRESSES: The final permanent recreational shooting order, map, justification for the final permanent order, and response to comments on the proposed permanent order are posted on the Arapaho and Roosevelt National Forests and Pawnee National Grassland's web page at www.fs.usda.gov/r02/arp/recreation/shooting.

FOR FURTHER INFORMATION CONTACT: Reghan Cloudman, Public Affairs Specialist, 970-219-8391 or reghan.cloudman@usda.gov. Individuals who use telecommunications devices for the hearing impaired may call 711 to reach the Telecommunications Relay Service, 24 hours a day, every day of the year, including holidays.

SUPPLEMENTARY INFORMATION: Section 4103 of the John D. Dingell, Jr. Conservation, Management, and Recreation Act of 2019 (16 U.S.C. 7913), hereinafter “the Dingell Act,” requires the Forest Service to provide advance notice and opportunity for public comment before temporarily or permanently closing any National Forest System lands to hunting, fishing, or recreational shooting.

The Forest Service has completed the public notice and comment process required under the Dingell Act for the permanent order prohibiting recreational shooting in the southern Clear Creek, northern Larimer and Grand County areas in the Clear Creek, Canyon Lakes, and Sulphur Ranger Districts of the Arapaho and Roosevelt National Forests and Pawnee National Grassland. The Forest Service is issuing the final permanent order prohibiting recreational shooting. The final permanent recreational shooting order, map, justification for the final permanent recreational shooting order, and the response to comments on the proposed permanent recreational shooting order are posted on the Arapaho and Roosevelt National Forests and Pawnee National Grassland's web page at www.fs.usda.gov/r02/arp/recreation/shooting.

Beattra Wilson,
Associate Deputy Chief, National Forest System.

[FR Doc. 2025-15330 Filed 8-12-25; 8:45 am]

BILLING CODE 3411-15-P